DEPARTMENT OF AGRICULTURE

National Agricultural Statistics Service

Notice of Intent To Request Revision and Extension of a Currently Approved Information Collection; Correction

AGENCY: National Agricultural Statistic Service, USDA.

ACTION: Notice and request for comments; correction.

SUMMARY: This notice announced the National Agricultural Statistic Service's intentions to seek OMB's approval to request revision and extension of a current approve information collection, the Organic Survey. The notice was published in the Federal Register on March 17, 2014.

FOR FURTHER INFORMATION CONTACT: Joseph T. Reilly, 202-720-4333.

Corrections

In the Federal Register of March 17, 2014, in FR Doc. 2014-05843, make the following corrections:

1. On page 14663, in the first column, in the SUMMARY, correct “Certified Organic Survey” to read “Organic Survey”.

2. On page 14663, in the second column, in the SUPPLEMENTARY INFORMATION:, under Title: correct “Certified Organic Survey” to read “Organic Survey”.

3. On page 14663, in the second column, in the SUPPLEMENTARY INFORMATION:, under Abstract:, Paragraph one, line 21: correct “Certified Organic Survey” to read “Organic Survey”.

4. On page 14663, in the second column, in the SUPPLEMENTARY INFORMATION:, under Abstract:, Paragraph two, add “and farm operators exempt from certification” to the end of the first sentence.

Yvette Anderson,
Federal Register Liaison Officer.

[FR Doc. 2014-06277 Filed 3-24-14; 8:45 am]

BILLING CODE P